DEPARTMENT OF AGRICULTURE

Submission for OMB Review; Comment Request

February 17, 2010

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal Plant and Health Inspection Service

Title: 7 CFR 340; Introduction of Organisms and Products Altered or Produced Through Genetic Engineering.

OMB Control Number: 0579-0085.

Summary of Collection: The Animal and Plant Health Inspection Service (APHIS) is charged with preventing the introduction of plant pest into the United States or their dissemination within the United States. The statutory requirements for the information collection activity are found in the Plant Pest Act (PPA). The regulations in 7 CFR part 340 implement the provisions of the PPA by providing the information necessary to establish conditions for proposed introductions of certain genetically engineered organisms and products which present a risk of plant pest introduction. APHIS will collect information using several APHIS forms.

Need and Use of the Information: APHIS will collect the information through a notification procedure or a permit requirement to ensure that certain genetically engineered organisms, when imported, moved interstate, or released into the environment, will not present a risk of plant pest introduction. The information collected through the petition process is used to determine whether a genetically engineered organism will pose a risk to agriculture or the environment if grown in the absence of regulations by APHIS. The information is also provided to State departments of agriculture for review, and made available to the public and private sectors on the Internet to ensure that all sectors are kept informed concerning any potential risks posed through the use of genetic engineering technology.

Description of Respondents: Business or other for profit; Not-for-profit institutions; State, Local or Tribal Government.

Number of Respondents: 121.

Frequency of Responses: Recordkeeping; Reporting: On occasion.

Total Burden Hours: 3,308.

Animal and Plant Health Inspection Service

Title: Tuberculosis Testing for Imported Cattle.

OMB Control Number: 0579-0224.

Summary of Collection: Under the authority of the Animal Health Protection Act of 2002, 7 U.S.C., 8301 (et seq.), the Secretary of Agriculture is permitted to prevent, control and eliminate domestic diseases such as tuberculosis, as well as to take actions to prevent and to manage exotic diseases such as foot-and-mouth, rinderpest, and other foreign diseases. Disease prevention is the most effective method for maintaining a healthy animal population and enhancing the ability of U.S. producers to compete in the global market of animal and animal product trade. The Animal and Plant Health Inspection Service (APHIS) will collect information using form VS 17-129, “Application for Import or In Transit Permit.”

Need and Use of the Information: APHIS will collect information from the permit application regarding the type, number, and identification of the animals to be exported to the United States, as well as information concerning the origin, intended date and location of arrival, routes of travel, and destination of the animals. APHIS will also collect information that certified that the herd in which the cattle was born and raised has tested TB-negative to a whole herd test. Failure to collect this information would make it impossible for APHIS to effectively evaluate the TB risks associated with cattle importation from Mexico, thereby increasing the likelihood that healthy cattle and bison throughout the United States will be exposed to tuberculosis.

Description of Respondents: Business or other for-profit; Farms.

Number of Respondents: 80,075.

Frequency of Responses: Reporting: On occasion.

Total Burden Hours: 82,893.

Animal and Plant Health Inspection Service

Title: Asian Longhorn Beetle (ALB).

OMB Control Number: 0579-0311.

Summary of Collection: In accordance with 7 U.S.C. 7701 et seq., the Secretary of Agriculture has the ability to prohibit or restrict the importation, exportation and the interstate movement of plants, plant products, certain biological control organisms, noxious weeds, and plant pests. The Asian longhorned beetle (ALB) is a destructive pest of hardwood trees. It attacks many healthy hardwood trees, including maple, horse chestnut, birch, popular, willow, and elm. The beetle bores into the heartwood of a host tree, eventually killing the tree. The U.S. Department of Agriculture's Animal and Plant Health Inspection Service (APHIS) has administered an ALB Cooperative Eradication Program since 1996 to eradicate this destructive pest from the United States. Areas found to be infested are quarantined, and the movement of host material from the area is restricted. However, ALB continues to be a serious threat, and APHIS believes that public support is crucial to eradication efforts. APHIS plans to enlist the public's assistance in reporting the presence or absence of the ALB in their local areas. APHIS relies on the public to report sighting of the beetle or beetle damage they may see in their local area. This reporting, which is done through a simple on-line survey form to record suspected sighting of ALB.

Need and Use of the Information: The voluntary online survey will collect the following information from each respondent: For positive sightings, the name of the person reporting the finding, a way to contact then, the exact address/location of the sighting, and details on where the tree is located are needed. Failure to collect this information could lead to the deregulation of areas where the beetle is still present, thus leading to a large scale outbreak.

Description of Respondents: Individuals or households.

Number of Respondents: 5,000.

Frequency of Responses: Reporting: On occasion.

Total Burden Hours: 415.

Ruth Brown,
Departmental Information Collection Clearance Officer.

[FR Doc. 2010-3433 Filed 2-22-10; 8:45 am]

BILLING CODE 3410-34-P